DEPARTMENT OF THE INTERIOR

National Park Service

[N6419; NPS-WASO-NAGPRA-NPS0040825; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH), has completed an inventory of human remains and associated funerary objects and has determined that there is a cultural affiliation between the human remains and associated funerary objects and Indian Tribes or Native Hawaiian organizations in this notice.

DATES: Repatriation of the human remains and associated funerary objects in this notice may occur on or after September 15, 2025.

ADDRESSES: Send written requests for repatriation of the human remains and associated funerary objects in this notice to Megan Fry, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing at least four individuals from Devils Den (8LV84) are present at the Florida Museum of Natural History. There are 118 associated funerary objects consisting of faunal bone and fossil specimens, including opossum, round-tailed muskrat, fox squirrel, southern flying squirrel, pocket gopher, rabbit, white-tailed deer, among others.

The site is an Early Archaic, inundated land slide that has produced fossils and faunal bones dating between 115kya to 12kya, based on biochronology. The site is an underwater sink hole. The University of Florida faculty and volunteers collected fossil specimens and human remains in the 1960's, redepositing them in the FLMNH Division of Vertebrate Paleontology. They subsequently transferred most of the Ancestors to the Anthropology Department of FLMNH, although a few were retained. In 1991, Michael Stallings was contacted by Eddie Montero of Divers Supply in GNV stating that “human bones” had been found by divers at Devils Den. He visited the site the following day and spoke with the owner (Anna Lovaas). She handed over the human and faunal bones, which were later taken to FLMNH for identification by Gary Morgan and Liz Wing (EAP). The following week they were taken back to DD and returned to the place where they had been removed, and those Ancestors are not included in this notice. It appears that the Ancestors from the Anthropology collection were later sent to Donald Morris at Arizona State University for study. They were later transferred from ASU to the Anthropology Department of the FLMNH in 2003, as part of a larger acquisition.

Cultural Affiliation

Based on the information available and the results of consultation, cultural affiliation is reasonably identified by the geographical location or acquisition history of the human remains and associated funerary objects described in this notice.

Determinations

The FLMNH has determined that:

• The human remains described in this notice represent the physical remains of four individuals of Native American ancestry.

• The 118 objects described in this notice are reasonably believed to have been placed intentionally with or near individual human remains at the time of death or later as part of the death rite or ceremony.

• There is a connection between the human remains and associated funerary objects described in this notice and the Miccosukee Tribe of Indians; Seminole Tribe of Florida; and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 15, 2025. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: August 5, 2025.
Melanie O'Brien,
Manager, National NAGPRA Program.

[FR Doc. 2025-15410 Filed 8-13-25; 8:45 am]

BILLING CODE 4312-52-P